DEPARTMENT OF THE INTERIOR

Office of Natural Resources Revenue

[Docket No. ONRR-2011-0018; DS63644000 DR2000000.CH7000 189D0102R2]

Notice of Audit Delegation Renewal for the States of Montana, New Mexico, and Oklahoma

AGENCY: Office of the Secretary, Office of Natural Resources Revenue, Interior.

ACTION: Notice.

SUMMARY: The Office of Natural Resources Revenue (ONRR) renewed current delegations of audit and investigation authority for the States of Montana, New Mexico, and Oklahoma. This notice gives members of the public an opportunity to review and comment on the States' delegations.

DATES: Submit written comments on or before December 14, 2018.

ADDRESSES: You may submit comments on this notice by any of the following methods:

• Electronically go to http://www.regulations.gov. In the entry titled “Enter Keyword or ID,” enter “ONRR-2011-0018,” and then click search. Follow the instructions to submit public comments. ONRR will post all comments.

• Email comments to Armand Southall, Regulatory Specialist, at Armand.Southall@onrr.gov. Please reference the Docket No. ONRR-2011-0018 in your comments.

• Hand-carry comments or use an overnight courier service. Our courier address is Building 85, Entrance N-1, Denver Federal Center, West 6th Ave. and Kipling St., Denver, Colorado 80225. Please reference the Docket No. ONRR-2011-0018 in your comments.

FOR FURTHER INFORMATION CONTACT: Mr. Patrick Milano, Indian and State Audit, ONRR; telephone (303) 231-3434; or by email to Patrick.Milano@onrr.gov.

SUPPLEMENTARY INFORMATION: The following officials are the State contacts for their respective proposals:

State | Department | Contact information
Montana | Montana Department of Revenue, Business, & Income Taxes | Van Charlton, 125 North Roberts, Helena, MT 59601-4558.
New Mexico | Taxation and Revenue Department, Oil and Gas Bureau | Gilbert Martinez, 1200 South St. Francis Drive, Santa Fe, NM 87502-4034.
Oklahoma | Oklahoma State Auditor & Inspector's Office | Mark Hudson, Director, Minerals Management Division, 3020 North Stiles Avenue, Oklahoma City, OK 73105.

In accordance with 30 CFR 1227.101(b)(1), the States requested that ONRR delegate the royalty management functions of conducting audits and investigations. The States requested delegation of these functions for producing Federal oil and gas leases within the State boundaries, as applicable. This is also for other producing solid mineral or geothermal Federal leases within the States. The States did not request delegation of royalty and production reporting functions. The States included their respective budget and work plans in their respective agreement applications. In addition, the States requested ONRR to renew their delegations within the time required by 30 CFR 1227.110(b).

ONRR determined not to hold a formal hearing under 30 CFR 1227.105. Therefore, in accordance with 30 CFR 1227.107, ONRR delegated the royalty management functions of conducting audits and investigations to the States of Montana, New Mexico, and Oklahoma. The States of Montana and Oklahoma requested 100-percent funding of the delegated functions for a 3-year period beginning October 1, 2017, with the opportunity to extend for an additional 3-year period. The State of New Mexico also requested 100-percent funding of the delegated functions for a 3-year period beginning July 1, 2018, with the opportunity to extend for an additional 3-year period. The States' new audit delegation agreements with ONRR are shown in the table below:

State | Agreement No. | Term
Montana | D17AC00024 | 10/01/2017-9/30/2020 10/01/2020-9/30/2023
New Mexico | D18AC0004 | 7/01/2018-6/30/2021 7/01/2021-6/30/2024
Oklahoma | D17AC00021 | 10/01/2017-9/30/2020 10/01/2020-9/30/2023

Authority: 30 U.S.C. 1701 et seq., Federal Oil and Gas Royalty Management Act.

James D. Steward,
Deputy Director for Office of Natural Resources Revenue.

[FR Doc. 2018-24745 Filed 11-13-18; 8:45 am]

BILLING CODE 4335-30-P